DEPARTMENT OF JUSTICE

Notice of Lodging of Modification To Consent Decree Under the Comprehensive Environmental Response, Compensation, and Liability Act

Notice is hereby given that on November 30, 2010, a proposed modification (“Modification”) to the Consent Decree in United States v. City of Newburgh, et al., Civil Action No. 08 Civ. 7378 (“Consent Decree”) was lodged with the United States District Court for the Southern District of New York.

The Modification resolves the claims of the United States, on behalf of the Environmental Protection Agency (“EPA”), under Sections 107 and 113 of the Comprehensive Environmental Response, Compensation, and Liability Act of 1980, as amended, 42 U.S.C. 9607 and 9613, against 27 potentially responsible parties (“Additional Settling Parties”) who arranged for scrap metal containing hazardous substances to be transported to the Consolidated Iron and Metal Company Superfund Site (the “Site”) for treatment or disposal.

The Site is a former junkyard and scrap metal processing facility located in the City of Newburgh, New York. Consolidated Iron and Metal Company, Inc. (“Consolidated”) operated the facility from the 1950s until 1999. Consolidated, in the course of processing scrap metal materials, contaminated the Site with hazardous substances, including lead, polychlorinated biphenyls and volatile organic compounds. Consolidated is now a defunct company.

The original Consent Decree resolved the United States' claims against nine potentially responsible parties at the Site. The original Consent Decree was modified in October 2009 to add 58 additional settlors, and to resolve their potential liability at the Site.

The proposed Modification adds the 27 Additional Settling Parties to the Consent Decree and provides for them to pay $276,655 to the United States to resolve their liability at the Site. The 27 Additional Settling Parties also are paying $276,655 to five of the parties to the original Consent Decree. The Modification provides the 27 Additional Settling Parties with covenants not to sue from the United States regarding the Site and contribution protection.

The Department of Justice will receive, for a period of thirty (30) days from the date of this publication, comments relating to the Modification. Comments should be addressed to the Assistant Attorney General, Environment and Natural Resources Division, and either e-mailed to pubcomment-ees.enrd@usdoj.gov or mailed to P.O. Box 7611, U.S. Department of Justice, Washington, D.C. 20044-7611, and should refer to United States v. City of Newburgh, et al., D.J. Ref. 90-11-3-07979/2.

The Modification may be examined at the Office of the United States Attorney, 86 Chambers Street, 3rd Floor, New York, New York 10007, and at U.S. EPA Region 2, Office of Regional Counsel, 290 Broadway, New York, New York 10007-1866. During the public comment period, the Modification may also be examined on the following Department of Justice Web site, http://www.usdoj.gov/enrd/Consent_Decrees.html. A copy of the Modification may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.75 (25 cents per page reproduction cost) payable to the U.S. Treasury or, if by e-mail or fax, forward a check in that amount to the Consent Decree Library at the stated address.

Maureen Katz,
Assistant Chief, Environmental Enforcement Section, Environment and Natural Resources Division.

[FR Doc. 2010-30419 Filed 12-3-10; 8:45 am]

BILLING CODE 4410-15-P